FEDERAL RESERVE SYSTEM

Consumer Advisory Council; Notice of Meeting

The Consumer Advisory Council will meet on Thursday, March 26, 2009. The meeting, which will be open to public observation, will take place at the Federal Reserve Board's offices in Washington, DC, in Dining Room E on the Terrace Level of the Martin Building. Anyone planning to attend the meeting should, for security purposes, register no later than Tuesday, March 24, by completing the form found online at: https://www.federalreserve.gov/secure/forms/cacregistration.cfm.

Additionally, attendees must present photo identification to enter the building.

The meeting will begin at 9 a.m. and is expected to conclude at 1 p.m. The Martin Building is located on C Street, NW., between 20th and 21st Streets.

The Council's function is to advise the Board on the exercise of the Board's responsibilities under various consumer financial services laws and on other matters on which the Board seeks its advice. Time permitting, the Council will discuss the following topics:

• Foreclosures

Members will discuss various issues related to foreclosures and efforts to prevent them, including the Making Home Affordable program.

• Neighborhood and Community Stabilization

Members will discuss strategies and challenges in the effort to stabilize communities affected by foreclosures, including the implementation of the Neighborhood Stabilization Program.

• Access to Credit

Members will discuss various issues related to the current availability of credit to consumers and small businesses.

• Proposed Rules Regarding Overdraft Services

Members will discuss the proposed amendments to Regulation E, which would provide consumers with certain choices relating to the use of overdraft services and the assessment of overdraft fees.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, DC 20551. Information about this meeting may be obtained from Ms. Kerslake, 202-452-6470.

Board of Governors of the Federal Reserve System, March 5, 2009.
Jennifer J. Johnson,
Secretary of the Board.

[FR Doc. E9-4984 Filed 3-9-09; 8:45 am]

BILLING CODE 6210-01-P